DEPARTMENT OF COMMERCE

International Trade Administration

[C-580-837]

Certain Cut-to-Length Carbon-Quality Steel Plate From the Republic of Korea: Final Results, and Rescission, in Part, of Countervailing Duty Administrative Review; 2020

AGENCY: Enforcement and Compliance, International Trade Administration, Department of Commerce.

SUMMARY: The U.S. Department of Commerce (Commerce) determines that countervailable subsidies are not being provided to certain producers and exporters of certain cut-to-length carbon-quality steel plate from the Republic of Korea (Korea). The period of review (POR) is January 1, 2020, through December 31, 2020.

DATES: Applicable September 1, 2022.

FOR FURTHER INFORMATION CONTACT: David Lindgren, AD/CVD Operations, Office III, Enforcement and Compliance, International Trade Administration, U.S. Department of Commerce, 1401 Constitution Avenue NW, Washington, DC 20230; telephone: (202) 482-1671.

SUPPLEMENTARY INFORMATION:

Background

Commerce published the Preliminary Results of this review on March 2, 2022 and, subsequently, on May 12, 2022, issued its post-preliminary analysis.¹ On June 8, 2022, Commerce extended the final results of review to August 26, 2022.² For a complete description of the events that occurred since the Preliminary Results, see the Issues and Decision Memorandum.³

¹ See Certain Cut-to-Length Carbon-Quality Steel Plate from the Republic of Korea: Preliminary Results and Preliminary Intent To Rescind, in Part, the Countervailing Duty Administrative Review; 2020, 87 FR 11688 (March 2, 2022) (Preliminary Results), and accompanying Preliminary Decision Memorandum; see also Memorandum, “Countervailing Duty Administrative Review of Certain Cut-To Length Carbon-Quality Steel Plate from the Republic of Korea; 2020: Post-Preliminary Analysis Memorandum,” dated May 12, 2022.

² See Memorandum, “Extension of Deadline for Final Results,” dated June 8, 2022.

³ See Memorandum, “Decision Memorandum for the Final Results of the Countervailing Duty Administrative Review, 2020: Certain Cut-To-Length Carbon-Quality Steel Plate from the Republic of Korea,” dated concurrently with, and hereby adopted by, this notice (Issues and Decision Memorandum).

Scope of the Order ⁴

⁴ See Notice of Amended Final Determination: Certain Cut-to-Length Carbon-Quality Steel Plate from India and the Republic of Korea; and Notice of Countervailing Duty Orders: Certain Cut-to-Length Carbon-Quality Steel Plate from France, India, Indonesia, Italy, and the Republic of Korea, 65 FR 6587 (February 10, 2000) (Order).

The product covered by this order is certain cut-to-length carbon-quality steel plate. For a complete description of the scope of this order, see the Issues and Decision Memorandum.

Rescission of Administrative Review, In Part

Based on our analysis of U.S. Customs and Border Protection (CBP) data and comments received from interested parties, we determine that two companies, BDP International and Sung Jin Steel Co., Ltd had no reviewable shipments, sales, or entries of subject merchandise during the POR. Absent evidence of shipments on the record, we are rescinding the administrative review of these companies, pursuant to 19 CFR 351.213(d)(3). For further information, see “Rescission of Administrative Review, in Part” in the Issues and Decision Memorandum.

Analysis of Comments Received

All issues raised in interested parties' briefs are addressed in the Issues and Decision Memorandum. A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁵ For a description of the methodology underlying all of Commerce's conclusions, see the Issues and Decision Memorandum.

⁵ See sections 771(5)(B) and (D) of the Act regarding financial contribution; section 771(5)(E) of the Act regarding benefit; and section 771(5A) of the Act regarding specificity.

Changes Since the Preliminary Results

Based on a review of the record and comments received from interested parties regarding our Preliminary Results, and for the reasons explained in the Issues and Decision Memorandum, we made certain changes for these final results of review.

Companies Not Selected for Individual Review

To determine the rate for companies not selected for individual examination, Commerce's practice is to weight average the net countervailable subsidy rates for the selected mandatory companies, excluding rates that are zero, de minimis, or based entirely on facts available.⁶ In this review, we calculated a de minimis net countervailable subsidy rate for the sole mandatory respondent Hyundai Steel Co., Ltd. (Hyundai Steel). In countervailing duty proceedings, where the number of respondents individually examined has been limited, Commerce has determined that a “reasonable method” to use to determine the rate applicable to companies not individually examined when all the rates of selected mandatory respondents are zero or de minimis is to assign to the non-selected respondents the average of the most recently determined rates that are not zero, de minimis, or based entirely on facts available.⁷ However, as discussed in the Issues and Decisions Memorandum, where a non-selected respondent has a calculated rate in a prior segment of the proceeding, Commerce finds it appropriate to apply the most recently calculated rate for that respondent (even when that rate is zero or de minimis) unless Commerce determines that rate to be obsolete.⁸

⁶ See, e.g., Certain Pasta from Italy: Final Results of the 13th (2008) Countervailing Duty Administrative Review, 75 FR 37386, 37387 (June 29, 2010).

⁷ See, e.g., Circular Welded Carbon Steel Pipes and Tubes from Turkey: Final Results of Countervailing Duty Administrative Review; Calendar Year 2012 and Rescission of Countervailing Duty Administrative Review, in Part, 79 FR 51140, 51141 (August 27, 2014); and Cut-to-Length Carbon-Quality Steel Plate from the Republic of Korea: Final Results of Countervailing Duty Administrative Review; 2012, 79 FR 46770 (August 11, 2014), and accompanying Issues and Decision Memorandum, at “Non-Selected Rate.”

⁸ Id.

In the 2018 administrative review of the Order, we calculated a net countervailable subsidy rate of 0.28 percent ad valorem (de minimis) for Dongkuk Steel Mill Co., Ltd. (DSM),⁹ which was not individually examined in this review. Therefore, consistent with Commerce's practice, described above, we are assigning the rate of 0.28 percent ad valorem to DSM, based on the company's most recent calculated rate. See the Issues and Decisions Memorandum for a discussion of assigning this rate to DSM.

⁹ See Certain Cut-to-Length Carbon-Quality Steel Plate from the Republic of Korea: Final Results of Countervailing Duty Administrative Review; Calendar Year 2018, 85 FR 84296 (December 28, 2020).

Final Results of Administrative Review

We determine that, for the period January 1, 2020, through December 31, 2020, the following net countervailable subsidy rates exist:

Company | Subsidy rate (percent ad valorem)
Hyundai Steel Co., Ltd | 0.25 (de minimis).
Dongkuk Steel Mill Co., Ltd | 0.28 (de minimis).

Disclosure

Commerce intends to disclose the calculations performed for these final results of review within five days of the date of publication of this notice in the Federal Register, in accordance with 19 CFR 351.224(b).

Assessment Rate

In accordance with 19 CFR 351.212(b)(2), Commerce intends to issue assessment instructions to CBP to liquidate shipments of subject merchandise entered, or withdrawn from warehouse, for consumption on or after January 1, 2020, through December 31, 2020, for the above-listed companies (to which a de minimis rate is assigned) without regard to countervailing duties. For the companies for which this review is rescinded, we will instruct CBP to assess countervailing duties on all appropriate entries at a rate equal to the cash deposit of estimated countervailing duties required at the time of entry, or withdrawal from warehouse, for consumption, during the period January 1, 2020, through December 31, 2020, in accordance with 19 CFR 351.212(c)(l)(i). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

For the companies listed above for which the subsidy rates are de minimis, no cash deposit will be required of these companies on shipments of the subject merchandise entered or withdrawn from warehouse, for consumption on or after the date of publication of the final results of this review. For all non-reviewed firms, we will instruct CBP to continue to collect cash deposits of estimated countervailing duties at the most recent company-specific or all-others rate (i.e., 3.26 percent) ¹⁰ applicable to the company, as appropriate. These cash deposits, when imposed, shall remain in effect until further notice.

¹⁰ See Order, 65 FR 6589.

Administrative Protective Order

This notice also serves as a final reminder to parties subject to administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation subject to sanction.

Notice to Interested Parties

These final results are issued and published in accordance with sections 751(a)(1) and 777(i)(1) of the Act, and 19 CFR 351.213(d)(4) and 19 CFR 351.221(b)(5).

Dated: August 26, 2022
Lisa W. Wang,
Assistant Secretary for Enforcement and Compliance.

Appendix

List of Topics Discussed in the Issues and Decision Memorandum

I. Summary

II. List of Issues

III. Background

IV. Scope of the Order

V. Period of Review

VI. Rescission of Administrative Review, In Part

VII. Subsidies Valuation Information

VIII. Analysis of Programs

IX. Discussion of Comments

Comment 1: Whether the Korea Emissions Trading System is Countervailable

Comment 2: Whether the Preliminary Korea Emissions Trading System Benefit Calculation was Incorrect

Comment 3: Whether Provision of Port Usage Rights at the Port of Incheon is Countervailable

Comment 4: Whether Electricity is Subsidized by the Government of Korea

Comment 5: Whether Hyundai Steel and Hyundai Green Power are Cross-Owned

Comment 6: Whether the Reduction of Sewerage Usage Fees in Pohang Constitutes a Countervailable Subsidy

Comment 7: Selection of a Final Rate for Dongkuk Steel Mill Co., Ltd.

X. Recommendation

[FR Doc. 2022-18952 Filed 8-31-22; 8:45 am]

BILLING CODE 3510-DS-P